DEPARTMENT OF TRANSPORTATION

National Highway Traffic Safety Administration

49 CFR Part 571

[Docket No. NHTSA-02-11707]

RIN 2127-AI34

Federal Motor Vehicle Safety Standards; Child Restraint Systems

AGENCY: National Highway Traffic Safety Administration (NHTSA), Department of Transportation.

ACTION: Extension of comment period.

SUMMARY: NHTSA has received two petitions asking the agency to extend the comment period for a proposal to amend the Federal safety standard for child restraint systems pursuant to the Transportation Recall Enhancement, Accountability and Documentation Act of 2000. Under the proposal, the standard would be revised to incorporate improved test dummies and updated procedures used to test child restraints, new or revised injury criteria to assess the dynamic performance of child restraints, and extended to apply to child restraints recommended for use by children up to 65 pounds. The comment period for the proposal closes July 1, 2002. To provide parties more time to assess various aspects of the proposal, the agency is extending the deadline by one month.

DATES: Written comments must be received by July 31, 2002.

ADDRESSES: You may submit your comments in writing to: Docket Management, Room PL-401, 400 Seventh Street, SW., Washington, DC 20590. Alternatively, you may submit your comments electronically by logging onto the Docket Management System website at http://dms.dot.gov. Click on “Help & Information” or “Help/Info” to view instructions for filing your comments electronically. Regardless of how you submit your comments, you should mention the docket number of this document.

FOR FURTHER INFORMATION CONTACT: For non-legal issues, you may call Mike Huntley of the NHTSA Office of Crashworthiness Standards, at (202) 366-0029.

For legal issues, you may call Deirdre Fujita of the NHTSA Office of Chief Counsel, at (202) 366-2992.

SUPPLEMENTARY INFORMATION: Section 14(a) of the Transportation Recall Enhancement, Accountability, and Documentation (TREAD) Act, Pub. L. 106-414 mandated that the agency “initiate a rulemaking for the purposes of improving the safety of child restraints, including minimizing head injuries from side impact collisions.” Section 14(b) identifies specific elements that the agency must consider in its rulemaking. The Act directed the agency to complete the rulemaking by November 1, 2002. Pursuant to the TREAD Act, the agency published a notice of proposed rulemaking (NPRM) on Wednesday, May 1, 2002 (67 FR 21806). A 60-day comment period was provided.

The Juvenile Products Manufacturers Association (JPMA), representing manufacturers of child restraint systems, and ARRCA, Incorporated, petitioned for an extension of the comment period on the NPRM (see Docket No. NHTSA-02-11707). JPMA said that it was requesting an extension so that it can complete testing designed to generate data that will enable it to better analyze the NPRM. JPMA's testing is intended to assess what differences, if any, result from dynamically testing child restraints on a test seat assembly that incorporates the changes proposed in the NPRM, as compared to tests on the current seat assembly.

ARCCA petitioned for an extension of time to comment on the NPRM to fully evaluate a technical report on a test program performed for NHTSA by the U.S. Naval Air Warfare Center Aircraft Division at Patuxent River, Maryland. This report assesses the seat geometry and crash pulses of vehicles. The report was placed in the docket on June 19, 2002. ARCCA wanted more time to review and comment on the report and the proposals to which the report pertained.

In considering the petitions, NHTSA weighed the statutory deadline, the complexity and importance of this rulemaking, and the basis for the requests. The agency supports efforts to develop useful technical information on the proposal that do not unduly delay the rulemaking. Extending the comment period for a month will provide the time needed for the petitioners to obtain test data and other analyses that could help NHTSA decide whether and how to proceed with the rulemaking. Accordingly, the comment closing date is extended to July 31, 2002. However, given the statutory deadline of the TREAD Act, NHTSA does not anticipate granting any further extensions of the comment period in this proceeding. The agency will consider comments submitted after July 31, 2002, but only to the extent that it is possible to do so without causing additional delay.

Authority: 49 U.S.C. 322, 30111, 30115, 30117, and 30166; delegation of authority at 49 CFR 1.50 and 49 CFR 501.8.

Issued: June 26, 2002.
Stephen R. Kratzke,
Associate Administrator for Safety Performance Standards.

[FR Doc. 02-16632 Filed 6-27-02; 2:48 pm]

BILLING CODE 4910-59-P